DEPARTMENT OF HEALTH AND HUMAN SERVICES

Agency for Toxic Substances and Disease Registry

[60-Day 14-14FA]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

State Surveillance under the National Toxic Substance Incidents Program (NTSIP)—NEW—Agency for Toxic Substances and Disease Registry (ATSDR).

Background and Brief Description

The Agency for Toxic Substances and Disease Registry (ATSDR) is sponsoring the National Toxic Substance Incidents Program (NTSIP) to gather information from many resources to protect people from harm caused by spills and leaks of toxic substances. The NTSIP information will be used to help prevent or reduce the harm caused by toxic substance incidents. The NTSIP is modeled partially after the Hazardous Substances Emergency Events Surveillance (HSEES) Program which ran from 1992 to 2012 [OMB number: 0923-0008; expiration date 01/31/2012], with additions suggested by stakeholders to have a more complete program. The NTSIP has three components: a national database, state surveillance, and the response team. This information collection request is focused on the state surveillance component.

The NTSIP is the only federal public health-based surveillance system to coordinate the collection, collation, analysis, and distribution of acute toxic substance incidents data to public health and safety practitioners. Because thousands of acute spills occur annually around the country, it is necessary to establish this surveillance system to describe the public health impacts on the population of the United States. The ATSDR is seeking a three-year approval for the ongoing collection of information for the state surveillance system.

The main objectives of this information collection are to:

1. describe toxic substance releases and the public health consequences associated with such releases within the participating states,

2. identify and prioritize vulnerabilities in industry, transportation, and communities as they relate to toxic substance releases, and

3. identify, develop, and promote strategies that could prevent ongoing and future exposures and resultant health effects from toxic substance releases.

The NTSIP surveillance system will be incident-driven and all acute toxic substance incidents occurring within the participating states will be included. Upon Office of Management and Budget (OMB) approval, participating states will include Alaska, California, Louisiana, Michigan, Missouri, New York, North Carolina, Oregon, Tennessee, Utah, and Wisconsin.

A standardized set of data will be collected by the NTSIP coordinator for each incident. The NTSIP coordinator may be a federal employee assigned to the state or an employee of the state health department. State, but not federal, NTSIP coordinators will incur recordkeeping burden during two phases.

During the first phase, the NTSIP coordinators will rapidly collect and enter data from a variety of existing data sources. Examples of existing data sources include, but are not limited to, reports from the media, the National Response Center, the U.S. Department of Transportation Hazardous Materials Information Reporting System, and state environmental protection agencies. Approximately 65% of the information is expected to be obtained from existing data sources.

The second phase of the information collection will require the NTSIP coordinators to alert other entities of the incident when appropriate and to request additional information to complete the remaining unanswered data fields. Approximately 35% of the information is expected to be obtained from calling, emailing, or faxing additional types of respondents by the NTSIP coordinators.

These additional respondents will incur reporting burden and include, but are not limited to, the on-scene commander of the incident, emergency government services (e.g., state divisions of emergency management, local emergency planning committees, fire or Hazmat units, police, and emergency medical services), the responsible party (i.e., the “spiller”), other state and local government agencies, hospitals and local poison control centers.

The NTSIP coordinator will enter data directly into an ATSDR internet-based data system. NTSIP materials, including a public use data set, annual report, and published articles will be made available on the ATSDR NTSIP Web page at http://www.atsdr.cdc.gov/ntsip/.

There are no costs to respondents besides their time. The total burden hours requested is 1,821.

Estimated Annualized Burden Hours
Type of respondents | Form name | Number of respondents | Number of responses per respondent | Avg. burden per response (in hrs.) | Total burden (in hrs.)
State NTSIP Coordinators | NTSIP State Data Collection Form | 3 | 426 | 1 | 1,278
On-scene commanders | NTSIP State Data Collection Form | 110 | 1 | 30/60 | 55
Emergency government services | NTSIP State Data Collection Form | 810 | 1 | 30/60 | 405
Responsible party | NTSIP State Data Collection Form | 15 | 1 | 30/60 | 8
Other state and local governments | NTSIP State Data Collection Form | 60 | 1 | 30/60 | 30
Hospitals | NTSIP State Data Collection Form | 10 | 1 | 30/60 | 5
Poison Control Centers | NTSIP State Data Collection Form | 80 | 1 | 30/60 | 40
Total |  |  |  |  | 1,821

LeRoy Richardson,
Chief, Information Collection Review Office, Office of Scientific Integrity, Office of the Associate Director for Science, Office of the Director, Centers for Disease Control and Prevention.

[FR Doc. 2013-30671 Filed 12-24-13; 8:45 am]

BILLING CODE 4163-18-P